DEPARTMENT OF THE INTERIOR

Bureau of Land Management

[NV-930-1430-ET; Nev-045154; 4-08807]

Public Land Order No. 7617; Partial Revocation of Public Land Order No. 2307; Nevada

AGENCY: Bureau of Land Management, Interior.

ACTION: Public land order.

SUMMARY: This order partially revokes Public Land Order No. 2307 insofar as it affects approximately 19 acres of land withdrawn for use by the Department of the Air Force in Nye County, Nevada. This order opens the land to surface entry, mining, mineral leasing, and mineral material disposals.

DATES: October 29, 2004.

FOR FURTHER INFORMATION CONTACT: Wendy Seley, BLM Tonopah Field Station, P.O. Box 911, 1553 South Main, Tonopah, Nevada 89049, (775) 482-7800.

SUPPLEMENTARY INFORMATION: On March 21, 1961, Public Land Order No. 2307 withdrew three parcels of land which included a Department of the Air Force radar site. The radar site is no longer needed and has been relinquished by the Air Force.

Order

By virtue of the authority vested in the Secretary of the Interior by Section 204 of the Federal Land Policy and Management Act of 1976, 43 U.S.C. 1714 (2000), it is ordered as follows:

1. Public Land Order No. 2307, which withdrew public land for use by the Department of the Air Force for the Beatty Range Radar Site, is hereby revoked insofar as it affects the following described land:

Mount Diablo Meridian

T. 10 S., R. 46 E.,

Sec. 9, unsurveyed. Commencing for reference at a point on a high peak whose approximate geographical location is latitude 37°05′ and longitude 116°49′ thence south 466.69 feet to the point of beginning; thence West, 466.69 feet; North, 933.38 feet; East, 933.38 feet; South, 933.38 feet; West, 466.69 feet to the point of beginning.

The tract described contains approximately 19 acres in Nye County.

2. At 9 a.m. on October 29, 2004, the land described in paragraph 1, will be opened to the operation of the public land laws generally, the operation of the mineral leasing laws, and the mineral material laws, subject to valid existing rights, the provisions of existing withdrawals, other segregations of record, and the requirements of applicable law. All valid applications received at or prior to 9 a.m. on October 29, 2004, shall be considered as simultaneously filed at that time. Those received thereafter shall be considered in the order of filing.

3. At 9 a.m. on October 29, 2004, the land described in paragraph 1, will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: September 14, 2004.
Rebecca W. Watson,
Assistant Secretary—Land and Minerals Management.

[FR Doc. 04-21776 Filed 9-28-04; 8:45 am]

BILLING CODE 4310-HC-P